ENVIRONMENTAL PROTECTION AGENCY

[FRL-7209-8]

Agency Information Collection Activities: Submission for OMB Review; Comment Request; Drinking Water Customer Satisfaction Survey

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Drinking Water Customer Satisfaction Survey, EPA ICR number 2016.01. The ICR describes the nature of the information collection and its expected burden and cost; where appropriate, it includes the actual data collection instrument.

DATES: Comments must be submitted on or before June 10, 2002.

ADDRESSES: Send comments, referencing EPA ICR No. 2016.01, to the following addresses: Susan Auby, U.S. Environmental Protection Agency, Collection Strategies Division (Mail Code 2822T), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR, contact Susan Auby at EPA by phone at (202) 566-1672, by E-mail at auby.susan@epamail.epa.gov, or download off the Internet at http://www.epa.gov/icr and refer to EPA ICR No. 2016.01. For technical questions about the ICR contact Scott Conklin at (202) 564-4640, (202) 564-3757 (fax), by E-mail at conklin.scott@epamail.epa.gov.

SUPPLEMENTARY INFORMATION: Title: Drinking Water Customer Satisfaction Survey; EPA ICR No. 2016.01. This is a new collection.

Abstract: The Office of Ground Water and Drinking Water is planning to conduct a customer satisfaction survey on the effectiveness of its right-to-know efforts required under the Safe Drinking Water Act. The Safe Drinking Water Act requires EPA to ensure drinking water information is made available to the general public. This survey will allow the EPA to evaluate current public awareness initiatives for disseminating drinking water information to the public. Conducting this survey will help the EPA assess general customer perceptions and habits concerning drinking water. By gauging the effectiveness of current outreach activities, the Agency will measure whether information efforts are meeting customer needs. The Agency will also gain insight on how to improve the way this information is disseminated in the future. The information collected will involve 1250 randomly selected adults from the general public. Of the 1250 respondents, EPA estimates that there will be approximately 250 screening-only respondents and 1000 respondents that will complete the full survey. The survey will be conducted by the Gallup organization under contract to EPA. The selected individuals will be asked specific questions concerning general consumer awareness issues, consumer confidence reports (annual water quality reports), source water assessments, and customer preferences with respect to mechanisms for receiving information. In addition, the survey asks demographic questions about factors that may be drivers of satisfaction. These factors include consumer perceptions of water quality, concerns about taste and odor, and whether consumers already drink bottled water or filter their tap water. The survey instrument is a voluntary telephone questionnaire, averaging 11 minutes, that covers approximately 26 questions. EPA will only conduct this survey once during the period for which the ICR is in effect. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on October 29, 2001 (66 FR 209); 62 comments were received.

Burden Statement: The annual public reporting and recordkeeping burden for this collection of information is estimated to average 11 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: General Public.

Estimated Number of Respondents: 1,250.

Frequency of Response: One Time Collection.

Estimated Total Annual Hour Burden: 187.5.

Estimated Total Annualized Capital, O&M Cost Burden: $0.

Send comments on the Agency's need for this information, the accuracy of the provided burden estimates, and any suggested methods for minimizing respondent burden, including through the use of automated collection techniques to the addresses listed above. Please refer to EPA ICR No. 2016.01 in any correspondence.

Dated: May 2, 2002.
Oscar Morales,
Director, Collection Strategies Division.

[FR Doc. 02-11650 Filed 5-8-02; 8:45 am]

BILLING CODE 6560-50-P